DEPARTMENT OF COMMERCE

Foreign-Trade Zones Board

Order No. 1439

Approval of Manufacturing Authority—Subzone 61I, Shell Chemicals Yabucoa, Inc., (Oil Refinery), Yabucoa, Puerto Rico

Pursuant to its authority under the Foreign-Trade Zones Act of June 18, 1934, as amended (19 U.S.C. 81a-81u), the Foreign-Trade Zones Board (the Board) adopts the following Order:

Whereas, the Puerto Rico Trade and Exports Company, grantee of FTZ 61, has requested manufacturing authority on behalf of Shell Chemicals Yabucoa, Inc. (Shell), within Subzone 61I at the Shell refinery in Yabucoa, Puerto Rico (FTZ Docket 8-2005, filed 2/11/2005);

Whereas, notice inviting public comment has been given in the Federal Register (70 FR 9615, 2/28/2005);

Whereas, the Board adopts the findings and recommendations of the examiner's report, and finds that the requirements of the FTZ Act and Board's regulations would be satisfied, and that approval of the application would be in the public interest if approval is subject to the conditions listed below;

Now, therefore, the Board hereby orders:

The application for manufacturing authority under zone procedures within Subzone 61I, is approved, subject to the FTZ Act and the Board's regulations, including § 400.28, and subject to the following conditions:

1. Foreign status (19 CFR § 146.41, 146.42) products consumed as fuel for the petrochemical complex shall be subject to the applicable duty rate.

2. Privileged foreign status (19 CFR § 146.41) shall be elected on all foreign merchandise admitted to the subzone, except that non-privileged foreign (NPF) status (19 CFR § 146.42) may be elected on refinery inputs covered under HTSUS Subheadings #2709.00.10, #2709.00.20, #2710.11.25, #2710.11.45, #2710.19.05, #2710.19.10, #2710.19.45, #2710.91.00, #2710.99.05, #2710.99.10, #2710.99.16, #2710.99.21 and #2710.99.45 which are used in the production of:

-petrochemical feedstocks (examiners report, Appendix “C”);

-products for export;

-and, products eligible for entry under HTSUS # 9808.00.30 and

# 9808.00.40 (U.S. Government purchases).

Signed at Washington, DC, this 28th day of February 2006.

David M. Spooner,
Assistant Secretary of Commerce for Import Administration, Alternate Chairman, Foreign-Trade Zones Board.
Attest:
Dennis Puccinelli,
Executive Secretary.

[FR Doc. E6-3536 Filed 3-10-06; 8:45 am]

BILLING CODE 3510-DS-S